FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than May 20, 2020.

A. Federal Reserve Bank of Philadelphia (William Spaniel, Senior Vice President) 100 North 6th Street, Philadelphia, Pennsylvania 19105-1521. Comments can also be sent electronically to Comments.applications@phil.frb.org:

1. Patriot Financial Partners, GP III, L.P., Patriot Financial Partners III, L.P., Patriot Financial Partners, GP III, LLC, Patriot Financial Advisors, L.P., Patriot Financial Advisors, LLC and W. Kirk Wycoff, James J. Lynch, and James F. Deutsch (each of whom own the previously listed entities), all of Radnor, Pennsylvania; as members of a group acting in concert to acquire voting shares of Pacific Mercantile Bancorp and thereby indirectly acquire voting shares of Pacific Mercantile Bank, both of Costa Mesa, California.

B. Federal Reserve Bank of Kansas City (Dennis Denney, Assistant Vice President) 1 Memorial Drive, Kansas City, Missouri 64198-0001:

1. Jeffrey L. Laudermilk and the Jeffrey L. Laudermilk 2012 Irrevocable Trust, Jeffrey L. Laudermilk, trustee, both of Sterling Kansas; to acquire voting shares of Coronado, Inc. and thereby indirectly acquire voting shares of First Bank, both of Sterling, Kansas, and together with Terry A. Laudermilk; the Terry A. Laudermilk 2012 Irrevocable Trust, Terry A. Laudermilk, trustee; and Deborah Laudermilk, all of Wichita, Kansas; and Michelle K. Zaid-West and the Michelle Zaid-West 2012 Irrevocable Trust, Michelle K. Zaid-West, trustee, both of Sterling, Kansas; to be approved as members of the Laudermilk Family Group to acquire and/or retain voting shares of Coronado, Inc. and thereby indirectly acquire and/or retain voting shares of First Bank.

Board of Governors of the Federal Reserve System, April 30, 2020.
Yao-Chin Chao,
Assistant Secretary of the Board.

[FR Doc. 2020-09585 Filed 5-4-20; 8:45 am]

BILLING CODE P